FEDERAL COMMUNICATIONS COMMISSION

[DA 00-1639; Report No. AUC-34-E (Auction No. 34)]

Status of FCC Form 175 Applications Eligible To Participate in the Auction of Licenses for 800 MHz Specialized Mobile Radio (SMR) Services in the General Category Band (851-854 MHz) and Upper Band (861-865 MHz)

AGENCY: Federal Communications Commission.

ACTION: Notice.

SUMMARY: This document announces the 12 applicants that are eligible to participate in 800 MHz SMR Auction (Auction No. 34) and instructs those applicants on upfront payment information, bidding software and other pertinent information in reference to the auction. Also, this document identifies the 19 incomplete applications reported for this auction.

DATES: Auction No. 34 is scheduled to begin on Wednesday, August 16, 2000.

FOR FURTHER INFORMATION CONTACT: M. Nicole Oden, Auctions Legal Branch at (202) 418-0660 (regarding legal questions); Linda Sanderson, Auctions Operations (regarding bidding and general filing status) or Bob Reagle, Analyst, Auctions Operations (regarding bidding) at (717) 338-2888. For questions about payment or instructions for wiring upfront payments, contact Gail Glasser or Michelle Bennett, Auctions Accounting Group, at (202) 418-1995.

SUPPLEMENTARY INFORMATION: This is a summary of a public notice released July 24, 2000 (“Auction No. 34 Public Notice”). The complete text of the Auction No. 34 Public Notice, including all attachments, is available for inspection and copying during normal business hours in the FCC Reference Center (Room CY-A257), 445 12th Street, SW, Washington, DC. It may also be purchased from the Commission's copy contractor, International Transcription Services, Inc., (ITS, Inc.) 1231 20th Street, NW, Washington, DC 20036, (202) 857-3800. It is also available on the Commission's website at http://www.fcc.gov/wtb/auctions.

List of Attachments Available at the FCC

Attachment A—List of Accepted Applicants

Attachment B—List of Incomplete Applicants

Attachment C—Electronic Filing and Review of the FCC Form 175

Attachment D—Accessing the FCC Network to file FCC Form 175

1. The Federal Communications Commission (“FCC”) has received 31 FCC Form 175 applications to participate in Auction No. 34 scheduled to begin on Wednesday, August 16, 2000, for 1,053 licenses in the 800 MHz Band. The applications have been reviewed for completeness and compliance with the Commission's rules, and have been classified into the following categories:

Accepted for Filing—12 Applications

Incomplete—19 Applications

Accepted: Applications accepted for filing are listed in Attachment A. These applicants will become qualified bidders upon receipt of the required upfront payment due by 6:00 p.m. ET on Monday, July 31, 2000. See 47 CFR 1.2106. With respect to the FCC Form 175 applications, these applicants need take no further action except as may be necessary to maintain the accuracy of their applications. See 47 CFR 1.65. Also, applicants are advised that Attachment A includes FCC account numbers that were automatically created by the FCC software system for each applicant, and which are applicable for bidding only.

Incomplete: Applications found to be incomplete are listed alphabetically in Attachment B. Applicants whose FCC Form 175 applications have been deemed incomplete will receive overnight correspondence indicating what information is required to make the applications acceptable for filing. These applicants may become qualified bidders only if they: (1) Resubmit their applications by 6:00 p.m. ET on Monday, July 31, 2000, to correct the minor deficiencies indicated; and (2) make the required upfront payments by 6:00 p.m. ET on Monday, July 31, 2000. Applicants must also maintain the accuracy of their FCC Form 175 applications as required by the Commission's rules. In addition, applicants are advised that Attachment B includes FCC account numbers that were automatically created by the FCC software system for each applicant. These account numbers are applicable for bidding purposes only, should the applicant become eligible to participate in Auction No. 34.

2. The filing window for resubmitting FCC Form 175 applications is now open. Corrected applications must be filed no later than 6:00 p.m. ET on Monday, July 31, 2000. This will be the only opportunity to cure FCC Form 175 defects; late resubmissions will not be accepted. In addition, if an application remains incomplete or otherwise deficient after the resubmission deadline has passed, the application will be rejected.

Upfront Payment Deadline

3. Upfront payments and accompanying FCC Remittance Advice (FCC Form 159) for Auction No. 34 are due at Mellon Bank, Pittsburgh, Pennsylvania, by 6:00 p.m. ET on Monday, July 31, 2000. Payments must be made by wire transfer and applicants must include their Taxpayer Identification Numbers (TIN). No other payment method is acceptable for this auction. Applicants are reminded to use their TIN and not their FCC Account Numbers on the FCC Remittance Advice (FCC Form 159).

4. Applicants that have filed applications deemed to be incomplete, as noted in this public notice, must submit timely and sufficient upfront payments before the Commission will review their resubmitted applications. If such an application remains incomplete following its resubmission, the application will be dismissed. If the applicant has provided its Taxpayer Identification Number (TIN) and wire transfer instructions, the upfront payment will be refunded automatically.

Other Important Information

5. Internet Access and Filing: Effective Monday, July 17, 2000, the Bureau permitted the filing of FCC Form 175 via the Internet. As a result, two of the attachments previously provided in the Auction No. 34 Announcing Public Notice have been updated. See 65 FR 39388 (June 26, 2000). Specifically, the Bureau has amended Attachment C and Attachment H. The amended attachments are included in this public notice as Attachment C and D.

6. Qualified Bidders: Approximately one week after upfront payments have been received, resubmitted FCC Form 175 applications have been processed and reviewed, and payments and applications have been correlated, a public notice listing all applicants qualified to bid in the auction will be released. The same public notice will also include instructions on how to access the auction tracking tool software, a bidding schedule for the Mock auction, and the bidding schedule for the first day of the auction.

7. Prohibition of Collusion: Bidders are reminded that § 1.2105(c) of the Commission's rules prohibits applicants for the same geographic license area from communicating with each other during the auction about bids, bidding strategies, or settlements unless they have identified each other as parties with whom they have entered into agreements under § 1.2105(a)(2)(viii). For Auction No. 34, this prohibition became effective at the filing deadline of short-form applications on Monday, July 17, 2000, and will end on the post-auction down payment due date. The post-auction down payment due date will be announced in a future public notice. If parties had agreed in principle on all material terms, those parties must have been identified on the short-form application under § 1.2105(c), even if the agreement had not been reduced to writing. If parties had not agreed in principle by the filing deadline, an applicant should not have included the names of those parties on its application, and must not have continued negotiations with other applicants for licenses in the same geographic area. For further details regarding the prohibition against collusion refer to the Auction No. 34 Announcing Public Notice.

8. In addition, applicants are reminded that they are subject to the antitrust laws, which are designed to prevent anti-competitive behavior in the marketplace. Winning bidders will be required to disclose in their long-form applications the specific terms, conditions and parties involved in all bidding consortia, joint ventures, partnerships, and other arrangements entered into relating to the competitive bidding process. Bidders found to have violated the anti-collusion rule may be subject to sanctions.

9. Ex Parte Rule: Applicants should also be aware that the Commission has generally exempted auction proceedings from the strict requirements of the ex parte rule found in § 1.2108 of the Commission's rules.

10. Mock Auction: All applicants found to be qualified bidders are eligible to participate in a mock electronic auction on Monday, August 14, 2000. In the Qualified Bidders Public Notice, the Bureau will announce when software for the mock auction will be posted on the World Wide Web.

11. Remote Bidding Software: Applicants are reminded that qualified bidders are eligible to bid either electronically or telephonically. To bid electronically, applicants should complete the software order form included in the Auction No. 34 Announcing Public Notice or contact the Auctions Hotline at (717) 338-2888. To ensure timely delivery of remote bidding software before the auction begins, the Commission requests receipt of software orders by 5:30 p.m. ET on Tuesday, August 1, 2000. The minimum hardware and software specifications required for the FCC remote bidding system are listed:

• CPU: Intel ® Pentium or above.

• RAM: 16 MB (more recommended if you have multiple applications open).

• Hard Disk: 33 MB available disk space.

• 1.44 MB Floppy Drive or CD-ROM Drive (to install the Remote Bidding System).

• Modem: v.32bis 28.8 kbps Hayes© compatible modem (56.6 kbps recommended).

• Monitor: VGA or above.

• Mouse or other pointing device.

• Microsoft® Windows™ 95™ or 98™.

• We recommend that you use Netscape® Communicator™ 4.73. However, you can also use Netscape Communicator 4.7 or 4.72.

To download Netscape Communicator 4.73 free of charge, access the Netscape download site at http://home.netscape.com/download/.

Note: The FCC Remote Bidding System has not been tested in a Macintosh, OS/2, or Windows NT™ environment. Therefore, the FCC will not support operating systems other than Microsoft Windows 95 or 98. This includes any other emulated Windows environment.

12. Long-Form Applications: All applicants should be aware that at the long-form application stage, they will be subject to the more extensive reporting requirements contained in the Commission's Part 1 ownership disclosure rule. See 47 CFR 1.2112(b).

13. Bidder Alerts: All applicants must certify on their FCC Form 175 applications under penalty of perjury that they are legally, technically, financially and otherwise qualified to hold a license, and not in default on any payment for Commission licenses (including down payments) or delinquent on any non-tax debt owed to any Federal agency. Prospective bidders are reminded that submission of a false certification to the Commission is a serious matter that may result in severe penalties, including monetary forfeitures, license revocations, exclusion from participation in future auctions, and/or criminal prosecution.

14. Information about deceptive telemarketing investment schemes is available from the FTC at (202) 326-2222 and from the SEC at (202) 942-7040. Complaints about specific deceptive telemarketing investment schemes should be directed to the FTC, the SEC, or the National Fraud Information Center at (800) 876-7060. Consumers who have concerns about specific proposals may also call the FCC National Call Center at (888) CALL-FCC ((888) 225-5322).

Federal Communications Commission.
Louis J. Sigalos,
Deputy Chief, Auctions and Industry Analysis Division, Wireless Telecommunications Bureau.

[FR Doc. 00-19894 Filed 8-4-00; 8:45 am]

BILLING CODE 6712-01-P